DEPARTMENT OF COMMERCE

International Trade Administration

A-533-809

Stainless Steel Flanges from India: Notice of Initiation of Antidumping Duty New Shipper Reviews

AGENCY: Import Administration, International Trade Administration, Department of Commerce.

SUMMARY: The Department of Commerce (the Department) has received requests for new shipper reviews of the antidumping duty order on certain forged stainless steel flanges (flanges) from India issued on February 9, 1994. See Amended Final Determination and Antidumping Duty Order; Certain Forged Stainless Steel Flanges from India, 59 FR 5994 (February 9, 1994). In accordance with section 751(a)(2)(B) of the Tariff Act of 1930, as amended (the Act), and 19 CFR 351.214(d) (2005), we are initiating antidumping new shipper reviews of Micro Forge (India), Ltd. (Micro) and Pradeep Metals Limited (Pradeep), exporters and producers that requested new shipper reviews.

EFFECTIVE DATE: October 6, 2006.

FOR FURTHER INFORMATION CONTACT: Fred Baker, Michael Heaney, or Robert James, AD/CVD Operations, Office 7, Import Administration, International Trade Administration, U.S. Department of Commerce, 14th Street and Constitution Avenue, NW, Washington, DC 20230, telephone: (202) 482-2924, (202) 482-4475, or (202) 482-0649, respectively.

SUPPLEMENTARY INFORMATION:

Background

In accordance with section 751(a)(2)(B) of the Act and 19 CFR 351.214(d), the Department received timely requests submitted by Micro and Pradeep (producers and exporters of flanges) for new shipper reviews of the antidumping duty order on flanges from India. See August 31, 2006, letters from Micro and Pradeep to the Secretary of Commerce requesting new shipper reviews.

Pursuant to 19 CFR 351.214(b), Micro and Pradeep certified that they are both exporters and producers of the subject merchandise, that they did not export subject merchandise to the United States during the period of the investigation (POI) (July 1, 1992 through December 31, 1992), and that since the investigation was initiated, they have not been affiliated with any producer or exporter who exported the subject merchandise to the United States during the POI. They also submitted documentation establishing the date on which they first shipped the subject merchandise to the United States, the volume of those shipments, and the date of their first sales to unaffiliated customers in the United States. They also certified they had no shipments to the United States during the period subsequent to their first shipments.

Initiation of Review

In accordance with section 751(a)(2)(B) of the Act and section 351.214(d) of the Department's regulations, we find that the requests submitted by Micro and Pradeep meet the threshold requirements for initiation of a new shipper review. Accordingly, we are initiating new shipper reviews of the antidumping duty order on flanges from India manufactured and exported by Micro and Pradeep. These reviews cover the period February 1, 2006, through July 31, 2006. We intend to issue the preliminary results of these reviews no later than 180 days after the date on which these reviews are initiated, and the final results within 90 days after the date on which we issue the preliminary results. See section 751(a)(2)(B)(iv) of the Act.

On August 17, 2006, the Pension Protection Act of 2006 (H.R. 4) was signed into law. Section 1632 of H.R. 4 temporarily suspends the authority of the Department to instruct U.S. Customs and Border Protection (CBP) to collect a bond or other security in lieu of a cash deposit in new shipper reviews. Therefore, the posting of a bond under Section 751(a)(2)(B)(iii) of the Act in lieu of a cash deposit is not available in this case. Importers of subject merchandise manufactured and exported by Micro and Pradeep must continue to post a cash deposit of estimated antidumping duties on each entry of subject merchandise at the current all-others rate of 162.14 percent.

Interested parties may submit applications for disclosure under administrative protective order in accordance with 19 CFR 351.305 and 351.306.

This initiation and this notice are issued and published in accordance with section 751(a)(2)(B) of the Act and sections 351.214(d) and 351.221(c)(1)(i) of the Department's regulations.

Dated: September 29, 2006.
Stephen Claeys,
Deputy Assistant Secretary for Import Administration.

[FR Doc. E6-16517 Filed 10-5-06; 8:45 am]

BILLING CODE 3510-DS-S